DEPARTMENT OF TRANSPORTATION

Federal Aviation Administration

Sixth Meeting: RTCA Special Committee 207/Airport Security Access Control Systems

AGENCY: Federal Aviation Administration (FAA), DOT.

ACTION: Notice of RTCA Special Committee 207 Meeting, Airport Security Access Control Systems.

SUMMARY: The FAA is issuing this notice to advise the public of a meeting of RTCA Special Committee 207, Airport Security Access Control Systems.

DATES: The meeting will be held May 11, 2006, from 10-5 p.m.

ADDRESSES: The meeting will be held at RTC A, Inc., Conference Rooms, 1828 L Street, NW., Suite 805, Washington, DC 20036.

FOR FURTHER INFORMATION CONTACT: (1) RTCA Secretariat, 1828 L Street, NW., Suite 805, Washington, DC 20036; telephone (202) 833-9339; fax (202) 833-9434; web site http://www.rtca.org.

SUPPLEMENTARY INFORMATION: Pursuant to section 10(a)(2) of the Federal Advisory Committee Act (P.L. 92-463, 5 U.S.C., Appendix 2), notice is hereby given for a Special Committee 207 meeting. The agenda will include:

• May 11:

• Opening Plenary Session (Welcome, Introductions, and Administrative Remarks)

• Agenda Overview

• Workgroup Reports

• Workgroup 2: System Performance Requirements

• Workgroup 3: Subsystem Functional Performance Requirements

• Workgroup 4: System Verification and validation

• Workgroup 5: Biometrics

• Workgroup 6: Credentials

• Workgroup 7: Perimeter

• ICAO Update

• Closing Plenary Session (Other Business, Establish Agenda, Date and Place for Seventh and Eighth Meetings).

Attendance is open to the interested public but limited to space availability. With the approval of the chairmen, members of the public may represent oral statements at the meeting. Persons wishing to present statements or obtain information should contact the person listed in the FOR FURTHER INFORMATION CONTACT section. Members of the public may present a written statement to the committee at any time.

Issued in Washington, DC, on April 18, 2006.
Robert L. Bostiga,
RTCA Advisory Committee.

[FR Doc. 06-3946 Filed 4-26-06; 8:45am]

BILLING CODE 4910-13-M